DEPARTMENT OF ENERGY

Federal Energy Regulatory Commission

Combined Notice of Filings #1

Take notice that the Commission received the following electric rate filings:

Docket Numbers: ER10-2864-001; ER10-2863-001; ER10-2862-001; ER10-2867-001.

Applicants: Las Vegas Cogeneration LP, Las Vegas Cogeneration II, LLC, Valencia Power, LLC, Harbor Cogeneration Company, LLC.

Description: Supplement to June 28, 2013 Triennial Market Power Analysis of SGOC Southwest MBR Sellers for the Southwest Region.

Filed Date: 12/13/13.

Accession Number: 20131213-5057.

Comments Due: 5 p.m. ET 1/3/14.

Docket Numbers: ER12-1179-014.

Applicants: Southwest Power Pool, Inc.

Description: Compliance Filing to Adopt Initial List of Frequently Constrained Areas to be effective 3/1/2014.

Filed Date: 12/16/13.

Accession Number: 20131216-5000.

Comments Due: 5 p.m. ET 1/6/14.

Docket Numbers: ER14-625-000.

Applicants: Westar Energy, Inc.

Description: Amendment of Westar OATT—Schedule 1 to be effective 3/1/2014.

Filed Date: 12/16/13.

Accession Number: 20131216-5089.

Comments Due: 5 p.m. ET 1/6/14.

Docket Numbers: ER14-626-000.

Applicants: PJM Interconnection, L.L.C.

Description: Original Service Agreement No. 3679; Queue No. Y2-001 to be effective 11/14/2013.

Filed Date: 12/16/13.

Accession Number: 20131216-5104.

Comments Due: 5 p.m. ET 1/6/14.

Docket Numbers: ER14-627-000.

Applicants: New York Independent System Operator, Inc.

Description: NYISO tariff revision to improve interconnection study processes to be effective 2/14/2014.

Filed Date: 12/16/13.

Accession Number: 20131216-5167.

Comments Due: 5 p.m. ET 1/6/14.

Docket Numbers: ER14-628-000.

Applicants: Duke Energy Florida, Inc., Duke Energy Progress, Inc., Duke Energy Carolinas, LLC.

Description: Order No. 784 OATT Compliance Filing to be effective 11/27/2013.

Filed Date: 12/16/13.

Accession Number: 20131216-5176.

Comments Due: 5 p.m. ET 1/6/14.

Docket Numbers: ER14-629-000.

Applicants: Public Service Company of Colorado.

Description: 2013-12-16 Order No. 784 Filing to be effective 12/27/2013.

Filed Date: 12/16/13.

Accession Number: 20131216-5178.

Comments Due: 5 p.m. ET 1/6/14.

Docket Numbers: ER14-630-000.

Applicants: AlphaGen Power LLC.

Description: Market-based rate application to be effective 2/14/2014.

Filed Date: 12/16/13.

Accession Number: 20131216-5242.

Comments Due: 5 p.m. ET 1/6/14.

Docket Numbers: ER14-631-000.

Applicants: AlphaGen Power LLC.

Description: AlphaGen Power LLC submits Notice of succession—Reactive Power Tariff to be effective 3/1/2014.

Filed Date: 12/16/13.

Accession Number: 20131216-5261.

Comments Due: 5 p.m. ET 1/6/14.

Docket Numbers: ER14-632-000.

Applicants: Westar Energy, Inc.

Description: Revisions to Participation Power Agreements to be effective 3/1/2013.

Filed Date: 12/16/13.

Accession Number: 20131216-5286.

Comments Due: 5 p.m. ET 1/6/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 17, 2013.
Nathaniel J. Davis, Sr.,
Deputy Secretary.

[FR Doc. 2013-30699 Filed 12-24-13; 8:45 am]

BILLING CODE 6717-01-P